SMALL BUSINESS ADMINISTRATION

Data Collection Available for Public Comments

ACTION: 60-Day notice and request for comments.

SUMMARY: The Small Business Administration (SBA) intends to request approval, from the Office of Management and Budget (OMB) for the collection of information described below. The Paperwork Reduction Act (PRA) requires Federal agencies to publish a notice in the Federal Register concerning each proposed collection of information before submission to OMB, and to allow 60 days for public comment in response to the notice. This notice complies with that requirement.

DATES: Submit comments on or before July 30, 2024.

ADDRESSES: Send all comments to Donna Fudge, donna.fudge@sba.gov, (202) 205-6363, Office of Policy Planning and Liaison, Small Business Administration.

FOR FURTHER INFORMATION CONTACT: Donna Fudge, donna.fudge@sba.gov, (202) 205-6363, Office of Policy Planning and Liaison, Small Business Administration. Curtis B. Rich, Agency Clearance Officer curtis.rich@sba.gov 202-205-7030.

SUPPLEMENTARY INFORMATION: SBA is considering revising its information collections for various certification programs to streamline the certification process for those programs. In particular, SBA seeks to make the programs more uniform so that small businesses applying for multiple certifications face a common standard of review where possible. The certification programs affected are the 8(a) Business Development (BD) program, the women-owned small business program, the veteran-owned small business program, and the HUBZone program.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

PRA Number: 3245-0320.

(1) Title: HUBZone Program Electronic Application, Re certification and Program Examination.

Description of Respondents: The SBA is required by statute to administer the “Historically Underutilized Business Zone” (HUBZone) Program. To do this, it must certify eligible applicants as “qualified HUBZone small business concerns”; publish a listing of such certified firms; process periodic recertification of previously certified firms; and conduct program examinations of certified firms to ensure continuing compliance with program eligibility requirements. The HUBZone Electronic Application is used in execution of there requirements.

Form Number: SBA Form 2103, HUIBZone3Tribal, HUBZone 3ANCCDC, HUBZone 3AGCOP.

Total Estimated Annual Responses: 6,951.

Total Estimated Annual Hour Burden: 11,426.

Curtis B. Rich,
Agency Clearance Officer.

[FR Doc. 2024-11969 Filed 5-30-24; 8:45 am]

BILLING CODE 8026-09-P